DEPARTMENT OF COMMERCE

International Trade Administration

[A-823-808]

Suspension Agreement on Certain Cut-to-Length Carbon Steel Plate From Ukraine; Administrative Review

AGENCY: Import Administration, International Trade Administration, Department of Commerce.

DATES: Effective Date: August 1, 2013.

SUMMARY: The Department of Commerce (the Department) preliminarily determines that Metinvest Holding LLC (Metinvest) and its affiliated companies, Azovstal Iron & Steel Works (Azovstal) and Ilyich Iron and Steel Works (Ilyich), are in compliance with the agreement suspending the antidumping investigation of certain cut-to-length carbon steel plate (CTL plate) from Ukraine for the period November 1, 2011 through October 31, 2012. The preliminary results are set forth in the section titled “Methodology and Preliminary Results,” infra. We intend to issue the final results within 120 days after publication of these preliminary results in the Federal Register.

FOR FURTHER INFORMATION CONTACT: Judith Wey Rudman or Anne D'Alauro, Import Administration, International Trade Administration, U.S. Department of Commerce, 14th Street and Constitution Avenue NW., Washington, DC 20230, telephone: (202) 482-0192 or (202) 482-4830.

SUPPLEMENTARY INFORMATION:

Scope of Review

The products covered by the Agreement are hot-rolled iron and non-alloy steel universal mill plates, of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Excluded from the subject merchandise within the scope of this Agreement is grade X-70 plate. Although the HTS subheadings are provided for convenience and customs purposes, our written description of the scope of the Agreement is dispositive. For a full description of the scope of this Agreement, see Suspension of Antidumping Duty Investigation: Certain Cut-to-Length Carbon Steel Plate From Ukraine, 73 FR 57602 (October 3, 2008) (Agreement), Appendix A.

Methodology and Preliminary Results

On September 29, 2008, the Department signed an agreement under section 734(b) of the Tariff Act of 1930, as amended (the Act), with Ukrainian steel producers/exporters, including Azovstal and Ilyich, suspending the antidumping duty investigation on CTL plate from Ukraine. See Agreement. On November 30, 2012, Nucor Corporation submitted a request for an administrative review of the Agreement for CTL plate produced by Metinvest or any of its affiliates. Metinvest owns the Ukrainian CTL plate producers, Azovstal and Ilyich, and sells the companies' products to the United States.¹

¹ See, e.g., the Public Version of the February 4, 2011, “Verification Report: Metinvest International, SA” at pages 1 and 2 and Public Version of Metinvest's September 7, 2012, Narrative Section A Questionnaire Response at pages 8-10.

The review was initiated on December 31, 2012, for the November 1, 2011 through October 31, 2012 period of review. See Initiation of Antidumping and Countervailing Duty Administrative Reviews and Request for Revocation in Part, 77 FR 77017 (December 31, 2012). On January 22, 2013, the Department issued its questionnaire to Metinvest, the common parent of Azovstal and Ilyich (collectively, the companies). The companies submitted their joint response on March 1, 2013.

The Department has conducted this review in accordance with section 751(a)(1)(C) of the Act, which specifies that the Department shall “review the current status of, and compliance with, any agreement by reason of which an investigation was suspended.” In this case, the Department, Azovstal and Ilyich signed the Agreement suspending the underlying antidumping duty investigation on September 29, 2008. Pursuant to the Agreement, each signatory producer/exporter individually agrees to make any necessary price revisions to eliminate completely any amount by which the normal value (NV) of the subject merchandise exceeds the U.S. price of its merchandise subject to the Agreement. See Agreement, 73 FR 57602, 57603. Our review of the information submitted by the companies indicates that they have adhered to the terms of the Agreement and that the Agreement is functioning as intended. For a full description of the methodology underlying our conclusions, see “Decision Memorandum for Preliminary Results of Administrative Review of the Agreement Suspending the Antidumping Duty Investigation on Certain Cut-to-Length Carbon Steel Plate from Ukraine” from Lynn Fischer Fox, Deputy Assistant Secretary of Policy and Negotiations to Paul Piquado, Assistant Secretary for Import Administration (Preliminary Decision Memorandum), dated concurrently with these results and hereby adopted by this notice. The Preliminary Decision Memorandum is a public document and is made available to the public via Import Administration's Antidumping and Countervailing Duty Centralized Electronic Service System (IA ACCESS). IA ACCESS is available to registered users at https://iaaccess.trade.gov and in the Department's Central Records Unit, located in room 7046 of the main Department of Commerce building. In addition, a complete version of the Preliminary Decision Memorandum can be found on the Internet at http://www.trade.gov/ia. The signed Preliminary Decision Memorandum and the electronic version of the Preliminary Decision Memorandum are identical in content.

Public Comment

Interested parties may submit case briefs not later than 30 days after the date of publication of this notice.² Rebuttal briefs, limited to issues raised in the case briefs, may be filed not later than five days after the date for filing case briefs.³ Parties who submit case briefs or rebuttal briefs in this proceeding are encouraged to provide: (1) A statement of the issue; (2) a brief summary of the argument; and (3) a table of authorities.⁴

² See 19 CFR 351.309(c)(1)(ii).

³ See 19 CFR 351.309(d)(1).

⁴ See 19 CFR 351.309(c)(2) and (d)(2).

Pursuant to 19 CFR 351.310(c), interested parties who wish to request a hearing, or to participate if one is requested, must submit a written request to the Assistant Secretary for Import Administration, filed electronically via IA ACCESS. An electronically filed document must be received successfully in its entirety by the Department's electronic records system, IA ACCESS, by 5 p.m. Eastern Time within 30 days after the date of publication of this notice. Requests should contain: (1) The party's name, address and telephone number; (2) the number of participants; and (3) a list of issues to be discussed. Issues raised in the hearing will be limited to those raised in the respective case briefs. The Department intends to issue the final results of this administrative review, including the results of its analysis of the issues raised in any written briefs, not later than 120 days after the date of publication of this notice, pursuant to section 751(a)(3)(A) of the Act.

We are issuing and publishing these results in accordance with sections 751(a)(1) and 777(i)(1) of the Act.

Dated: July 26, 2013.
Paul Piquado,
Assistant Secretary for Import Administration.

[FR Doc. 2013-18543 Filed 7-31-13; 8:45 am]

BILLING CODE 3510-DS-P